DEPARTMENT OF HOMELAND SECURITY

Coast Guard

[Docket No. USCG-2023-0824]

Request for Information; Extension of Comment Period

AGENCY: Coast Guard, DHS.

ACTION: Extension of comment period for request for information.

SUMMARY: The Coast Guard is extending the comment period of the Request for Information to collect opinions, ideas, recommendations, and concerns related to the Coast Guard's mandate to create planning criteria for vessel response plans (VRPs) distinct to the Western Alaska and Prince William Sound Captain of the Port (COTP) zones. The Coast Guard is tasked with developing planning criteria suitable for operating areas where response capability is currently inadequate.

DATES: Comments must be submitted to the online docket via https://www.regulations.gov on or before May 3, 2024.

ADDRESSES: You may submit comments identified by docket number USCG-2023-0824 using the Federal Decision Making Portal at https://www.regulations.gov. See the “Public Participation and Request for Comments” portion of the SUPPLEMENTARY INFORMATION section for further instructions on submitting comments.

FOR FURTHER INFORMATION CONTACT: For information about this document, call or email Lieutenant Commander Adriana Gaenzle, U.S. Coast Guard; telephone 202-372-1226, email Adriana.J.Gaenzle@uscg.mil.

SUPPLEMENTARY INFORMATION:

Public Participation and Comments

The U.S. Coast Guard views public participation as essential to understanding vessel oil spill response planning and capabilities in remote areas of Alaska. The Coast Guard will consider all information and material received during the comment period. If you submit a comment, please include the docket number for this request for information, indicate the specific section of this document to which each comment applies, and provide a reason for each suggestion or recommendation.

Methods for submitting comments. We encourage you to submit comments through the Federal Decision-Making Portal at www.regulations.gov. To do so, go to www.regulations.gov, type USCG-2023-0824 in the search box, and click “Search.” Next, look for this document in the Search Results column, and click on it. Then click on the Comment option. If your material cannot be submitted using www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Discussion

The Request for Information was published on December 4, 2023. 88 FR 84157. The original comment period will close on March 4, 2024. However, the Coast Guard has been notified that several stakeholders would like more time to prepare their comments for the Request for Information. The Coast Guard has decided that an extension of the public comment period would be appropriate to allow interested parties additional time to submit comments for Coast Guard's consideration. Thus, Coast Guard is extending the comment period by 60 days, until May 3, 2024.

Dated: February 28, 2024.
D.S. Tulis,
Director, Emergency Management, U.S. Coast Guard.

[FR Doc. 2024-04680 Filed 3-5-24; 8:45 am]

BILLING CODE 9110-04-P